DEPARTMENT OF TRANSPORTATION

Federal Motor Carrier Safety Administration

[FMCSA Docket No. FMCSA 2000-7645]

Developing and Implementing a Long-Term Strategy and Performance Plan for Improving Commercial Motor Vehicle, Operator, and Carrier Safety

AGENCY: Federal Motor Carrier Safety Administration (FMCSA), DOT.

ACTION: Notice; request for comments.

SUMMARY: To comply with section 104 of the Motor Carrier Safety Improvement Act of 1999 (MCSIA), the FMCSA is developing a long-term strategy and performance plan for the period between fiscal years 2001 and 2010. Both the Congress and the Department of Transportation have stated long-term goals for improving commercial motor vehicle safety. This notice asks for public comment on the means by which the goals can be achieved and on the process to develop the plan.

DATES: You should submit your comments to this notice no later than December 15, 2000. We will consider late comments if we can within our tight deadline for action.

ADDRESSES: Mail or hand deliver comments to the U.S. Department of Transportation, Dockets Management Facility, Room PL-401, 400 Seventh Street, SW., Washington, DC 20590, or submit electronically at http://dmses.dot.gov/submit. Please include the docket number that appears in the heading of this document. You can examine and copy comments at the above address from 9 a.m. to 5 p.m., e.t., Monday through Friday, except Federal Holidays. If you want notification of receipt of comments, you must include a self-addressed, stamped postcard or you may print the acknowledgment page that appears after submitting comments electronically.

FOR FURTHER INFORMATION CONTACT: Mr. Bob Proferes, Chief, Strategic Planning and Program Evaluation Division, Telephone (202) 366-9220, Office of Policy Plans and Regulations, Federal Motor Carrier Safety Administration, 400 Seventh Street, SW., Washington, DC 20590-0001. Office hours are from 7:30 a.m. to 4:00 p.m., et, Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

Internet users also may find this document on the FMCSA web site at http://www.fmcsa.dot.gov/sap/stratplan.htm.

Background

Section 104 of the MCSIA, Public Law 106-159, 113 Stat. 1748, at 1754, requires that the Secretary of Transportation (Secretary) develop a long-term strategy for improving commercial motor vehicle, operator, and carrier safety. The strategy shall include an annual plan and a schedule of achieving, at a minimum, the following goals:

(1) Reducing the number and rates of crashes, injuries, and fatalities involving commercial motor vehicles;

(2) Improving the consistency and effectiveness of commercial motor vehicle, operator, and carrier enforcement and compliance programs;

(3) Identifying and targeting enforcement efforts at high-risk commercial motor vehicles, operators, and carriers; and

(4) Improving research efforts to enhance and promote commercial motor vehicle, operator, and carrier safety and performance.

The strategy and annual plans shall include, at a minimum, specific numeric or measurable goals designed to achieve the strategic goals, and estimates of the funds and staff resources needed to accomplish each activity.

In 1999, the Secretary established a Departmental goal for improving motor carrier safety of reducing large truck-related fatalities by 50 percent by the end of fiscal year 2009. Based on this goal, a long-term strategy will be developed for the planning period between fiscal years 2001 and 2010. The long term strategy will be aligned with the Department's 5-year strategic plan and annual performance plans, which are mandated by the Government Performance and Results Act of 1993, Public Law 103-62, 107 Stat. 285. A strategy and performance plan framework consisting of the Agency goals, strategies, measures, and resources will be prepared by the FMCSA and submitted to the Congress by the end of calendar year 2000.

A more detailed description of the planning process that the FMCSA will use to prepare the strategy and performance plan is available in this public docket and on the Internet at http://www.fmcsa.dot.gov/sap/stratplan.htm. A series of project deliverables will be developed and placed in the public docket and on the Internet as soon as they become available. The deliverables will include: (1) Assessment of the truck and bus-related crash problem; (2) a statement of the FMCSA mission, vision, values, and goals; (3) a series of papers on trends impacting truck and bus safety; (4) a series of issues papers outlining the key commercial vehicle safety challenges and potential solutions; (5) FMCSA and Department long-term strategies and discussion of current and future resource requirements; and (6) program performance model, including an outcome monitoring and evaluation plan.

This request offers the opportunity for any comments on the means by which the Agency and Department can achieve the stated goals, as well as comments on the planning process.

(Authority: 49 U.S.C. 322; 49 CFR 1.73)

Issued on: August 4, 2000.
Clyde J. Hart, Jr.,
Acting Deputy Administrator.

[FR Doc. 00-20523 Filed 8-11-00; 8:45 am]

BILLING CODE 4910-22-U